DEPARTMENT OF TRANSPORTATION

Federal Aviation Administration

Notice of Intent To Rule on Request To Change the Use of Airport Property at the Cincinnati/Northern Kentucky International Airport, Covington, KY

AGENCY: Federal Aviation Administration (FAA), DOT.

ACTION: Request for public comment.

SUMMARY: The Federal Aviation Administration is requesting public comment on the change of use of land at the Cincinnati/Northern Kentucky International Airport in the city of Covington, KY. This property, approximately .538 acres, will change to a non-aeronautical use. This action is taken under the provisions of Section 125 of the Wendell H. Ford Aviation Investment Reform Act for the 21st Century (AIR 21).

DATES: Comments must be received on or before December 31, 2008.

ADDRESSES: Documents are available for review at the Cincinnati/Northern Kentucky International Airport, 2939 Terminal Drive, Second Floor Administration, Hebron, KY 41048 and the FAA Airports District Office, 2862 Business Park Drive, Building G, Memphis, TN 38118. Written comments on the Sponsor's request must be delivered or mailed to: Mr. Phillip J. Braden, Manager, Memphis Airports District Office, 2862 Business Park Drive, Building G, Memphis, TN 38118 or Barbara Schempf, Cincinnati/Northern Kentucky International Airport, 2939 Terminal Drive, Second Floor Administration, Hebron, KY 41048.

FOR FURTHER INFORMATION CONTACT: Mr. Michael Thompson, Program Manager, Federal Aviation Administration, Memphis Airports District Office, 2862 Business Park Drive, Building G, Memphis, TN 38118. The application may be reviewed in person at this same location, by appointment.

SUPPLEMENTARY INFORMATION: The FAA proposes to rule and invites public comment on the request to change the use of property at the Cincinnati/Northern Kentucky International Airport, Covington, KY, under the provisions of AIR 21 (49 U.S.C. 47107(h)(2)).

On November 4, 2008, the FAA determined that the change of use of property at Cincinnati/Northern Kentucky International Airport, submitted by the airport sponsor, meets the procedural requirements of the Federal Aviation Administration. The FAA may approve the request, in whole or in part, no later than December 31, 2008.

The following is a brief overview of the request:

The County of Kenton, Kentucky and The Kenton County Airport Board, owners of the Cincinnati/Northern Kentucky International Airport, are proposing a permanent slope easement, changing the use of approximately .583 acres of airport property from aeronautical use to non-aeronautical use so the property can be used to accommodate a maintainable slope for an adjoining residential development.

Any person may inspect, by appointment, the request in person at the FAA office listed above under FOR FURTHER INFORMATION CONTACT.

In addition, any person may, upon appointment and request, inspect the request, notice and other documents germane to the request in person at the Cincinnati/Northern Kentucky International Airport.

Issued in Memphis, TN on November 4, 2008.
Phillip J. Braden,
Manager, Memphis Airports District Office, Southern Region.

[FR Doc. E8-28029 Filed 11-28-08; 8:45 am]

BILLING CODE 4910-13-M